DEPARTMENT OF TRANSPORTATION

Federal Aviation Administration

14 CFR Part 39

[Docket No. FAA-2007-27864; Directorate Identifier 2007-CE-038-AD; Amendment 39-15161; AD 2007-17-03]

RIN 2120-AA64

Airworthiness Directives; Pacific Aerospace Corporation, Ltd. Model 750XL Airplanes

AGENCY: Federal Aviation Administration (FAA), DOT.

ACTION: Final rule; correction.

SUMMARY: This document makes a correction to Airworthiness Directive (AD) 2007-17-03, which was published in the Federal Register on August 21, 2007 (72 FR 46541), and applies to certain Pacific Aerospace Corporation Ltd Model 750XL airplanes. AD 2007-17-03 requires inspecting the inboard end of the rear spar for security of the blind rivets, inspecting the radii of the rear spar upper and lower flanges for cracking, inspecting the aft flange of the inboard rib for cracking, replacing the rear spar if cracks are found in any of the inspections, and replacing rear spar blind rivets with bolts or rivets. The paragraph following the section heading Materials Incorporated by Reference does not have a paragraph designator. This document corrects that paragraph by inserting the paragraph designator “(i)” preceding the paragraph text.

DATES: The effective date of this AD (2007-17-03) remains September 25, 2007.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

On August 8, 2007, the FAA issued AD 2007-17-03, Amendment 39-15161 (72 FR 46541, August 21, 2007), which applies to certain Pacific Aerospace Corporation Ltd Model 750XL airplanes. AD 2007-17-03 requires you to inspect the inboard end of the rear spar for security of the blind rivets, inspecting the radii of the rear spar upper and lower flanges for cracking, inspecting the aft flange of the inboard rib for cracking, replacing the rear spar if cracks are found in any of the inspections, and replacing rear spar blind rivets with bolts or rivets. The paragraph following the section heading Materials Incorporated by Reference does not have a paragraph designator. This document corrects that paragraph by inserting the paragraph designator “(i)” preceding the paragraph text.

Need for the Correction

This correction is needed to specify the paragraph designator for the paragraph that follows the Materials Incorporated by Reference section heading.

Correction of Publication

Accordingly, the publication of August 21, 2007 (72 FR 46541), of Amendment 39-15161; AD 2007-17-03 which was the subject of FR Doc. E7-15978, is corrected as follows:

§ 39.13 [Corrected]

On page 46542, in the second column, at the beginning of the paragraph following the Materials Incorporated by Reference section heading, the paragraph designator (i), indented two spaces, precedes the paragraph.

Action is taken herein to correct this reference in AD 2007-17-03 and to add this AD correction to § 39.13 of the Federal Aviation Regulations (14 CFR 39.13).

The effective date remains September 25, 2007.

Issued in Kansas City, Missouri, on September 10, 2007.
Kim Smith,
Manager, Small Airplane Directorate, Aircraft Certification Service.

[FR Doc. E7-18136 Filed 9-17-07; 8:45 am]

BILLING CODE 4910-13-P